DEPARTMENT OF ENERGY

Federal Energy Regulatory Commission

[Project No. 1895-025]

City of Columbia, Columbia Hydroelectric Project; Notice Rejecting Request for Rehearing

November 4, 2003.

On September 4, 2003, the Director, Division of Hydropower Administration and Compliance, issued an order granting the licensee for the Columbia Hydroelectric Project No. 1875 an extension of time to comply with the requirements of Articles 202, 401, 406, 407, 411, 412 and 413 of the project license.¹ On October 2, 2003, South Carolina Coastal Conservation League and American Rivers (Conservation Groups) filed a request for limited rehearing of that order.

¹ These articles require licensee to file aperture cards of the approved Exhibit G drawings; documentation of an agreement regarding land for recreation facilities; a report documenting consultation with the River Alliance of the feasibility of a canoe put-in; and, for Commission approval, various project plans.

Pursuant to section 313(a) of the Federal Power Act, 16 U.S.C. 8251(a), a request for rehearing may be filed only by a party to the proceeding. In order for Conservation Groups to be a party to the proceeding, it must have timely filed motion to intervene pursuant to Rule 214 of the Rules of Practice and Procedure, 18 CFR 385.214.² Conservation Groups asks that the Commission “waive the requirement that a person requesting rehearing already have party status.”³ Because the requirement is statutorily based, it cannot be waived, and Conservation Groups' request for rehearing must therefore be rejected.

² See Pacific Gas and Electric Company, 40 FERC ¶61,035 (1987).

³ Rehearing request at p. 2.

Conservation Groups' rehearing request would be rejected in any event. With regard to post-licensing proceedings, the Commission only entertains motions to intervene where the filing entails a material change in the plan of project development or in the terms of the license, or would adversely affect the rights of property holder in a manner not contemplated by the license, or involves an appeal by an agency or entity specifically given a consultation role.⁴ The timing of a compliance filing is an administrative matter between the licensee and the Commission, and does not alter the substantive obligations of the licensee.⁵ It therefore does not give rise to an opportunity for intervention and rehearing.

⁴ Kings River Conservation District, 36 FERC ¶61,365 (1986).

⁵ City of Tacoma, Washington, 89 FERC ¶61,058 (1999). The only exception would be if the license articles specifically state that Conservation Groups must be consulted on extensions of deadlines set forth in the articles. Id. at 61,194 n. 9. Such is not the case here.

This notice constitutes final agency action. Request for rehearing by the Commission of this rejection notice must be filed within 30 days of the date of issuance of this notice, pursuant to 18 CFR 385.713.

Magalie R. Salas,
Secretary.

[FR Doc. E3-00208 Filed 11-12-03; 8:45 am]

BILLING CODE 6717-01-P